DEPARTMENT OF COMMERCE

International Trade Administration

[A-549-821]

Notice of Extension of Time Limit for Preliminary Results of Antidumping Duty Administrative Review: Polyethylene Retail Carrier Bags from Thailand

AGENCY: Import Administration, International Trade Administration, Department of Commerce.

EFFECTIVE DATE: March 25, 2008.

FOR FURTHER INFORMATION CONTACT: Dmitry Vladimirov, AD/CVD Operations, Office 5, Import Administration, International Trade Administration, U.S. Department of Commerce, 14th Street and Constitution Avenue, NW, Washington, DC 20230; telephone: (202) 482-0665.

Background

The Department of Commerce (the Department) published an antidumping duty order on polyethylene retail carrier bags from Thailand on August 9, 2004. See Antidumping Duty Order: Polyethylene Retail Carrier Bags From Thailand, 69 FR 48204 (August 9, 2004). On August 2, 2007, the Department published a notice of opportunity to request an administrative review of the antidumping duty order on polyethylene retail carrier bags from Thailand for the period August 1, 2006, through July 31, 2007. See Antidumping or Countervailing Duty Order, Finding, or Suspended Investigation; Opportunity to Request Administrative Review, 72 FR 42383 (August 2, 2007). On August 31, 2007, KYD, Inc., a U.S. importer of the subject merchandise, requested that the Department conduct an administrative review with respect to King Pac Industrial Co., Ltd. On August 31, 2007, The Polyethylene Retail Carrier Bag Committee and its individual members, Hilex Poly Co., LLC and Superbag Corporation, the petitioner in this proceeding, also requested that the Department conduct an administrative review with respect to King Pac Industrial Co., Ltd., Kor Ratthanakit Co., Ltd., Master Packaging Co., Ltd., Naraipak Co., Ltd., and Polyplast (Thailand) Co., Ltd.

On September 25, 2007, the Department published a notice of initiation of an administrative review of the antidumping duty order on polyethylene retail carrier bags from Thailand for the period August 1, 2006, through July 31, 2007. See Initiation of Antidumping and Countervailing Duty Administrative Reviews and Request for Revocation in Part, 72 FR 54428, 54429 (September 25, 2007). On December 6, 2007, the Department decided to limit its examination of requested companies to King Pac Industrial Co., Ltd., Naraipak Co., Ltd., and Polyplast (Thailand) Co., Ltd., pursuant to section 777A(c)(2)(B) of the Tariff Act of 1930, as amended. See Memorandum to Laurie Parkhill entitled “Polyethylene Retail Carrier Bags from Thailand - Respondent Selection,” dated December 6, 2006. The preliminary results of this administrative review are currently due no later than May 2, 2008.

Extension of Time Limit for Preliminary Results

Section 751(a)(3)(A) of the Tariff Act of 1930, as amended (the Act), requires the Department to make a preliminary determination within 245 days after the last day of the anniversary month of an order for which a review is requested and a final determination within 120 days after the date on which the preliminary determination is published in the Federal Register. If it is not practicable to complete the review within these time periods, section 751(a)(3)(A) of the Act allows the Department to extend the time limit for the preliminary determination to a maximum of 365 days after the last day of the anniversary month.

We determine that it is not practicable to complete the preliminary results of this review by the current deadline of May 2, 2008. We received a below-cost allegation and are currently conducting a below-cost investigation for one of the respondents, which will require us to analyze and incorporate the information from recently filed submissions. Further, we require additional time to verify information submitted by certain respondents in this administrative review.

Therefore, in accordance with section 751(a)(3)(A) of the Act and 19 CFR 351.213(h)(2), we are extending the time period for issuing the preliminary results of this review by 60 days to July 1, 2008.

This notice is published in accordance with sections 751(a)(3)(A) and 777 (i)(1) of the Act.

Dated: March 18, 2008.
Stephen J. Claeys,
Deputy Assistant Secretary for Import Administration.

[FR Doc. E8-6062 Filed 3-24-08; 8:45 am]

BILLING CODE 3510-DS-S